DEPARTMENT OF TRANSPORTATION

Federal Railroad Administration

Railroad Safety: Advisory Notice Related to Railroad Accidents in Vicinity of Underground Pipelines

AGENCY: Federal Railroad Administration (FRA), Department of Transportation (DOT).

ACTION: Advisory Notice.

SUMMARY: In response to Safety Recommendation R-12-04 issued by the National Transportation Safety Board (NTSB), FRA is issuing this Advisory Notice to inform railroads of the circumstances surrounding the June 19, 2009, derailment of eastbound Canadian National Railway (CN) Freight Train U70691-18 in Cherry Valley, IL, and to remind railroads of the need to immediately notify pipeline operators of rail accidents occurring in railroad rights-of-way where pipelines are present and the need to ensure that pipeline inspections are accomplished prior to resumption of service.

FOR FURTHER INFORMATION CONTACT: Karl Alexy, Staff Director, Hazardous Materials Division, Office of Railroad Safety, FRA, 1200 New Jersey Avenue SE., Washington, DC 20590; telephone: (202) 493-6245; or Karl.Alexy@dot.gov; or Elisabeth Galotto, Trial Attorney, Office of Chief Counsel, FRA, 1200 New Jersey Avenue SE., Washington, DC 20590; telephone: (202) 493-0270; or Elisabeth.Galotto@dot.gov.

SUPPLEMENTARY INFORMATION: On June 19, 2009, at approximately 8:36 p.m. (CST), CN Freight Train U70691-18, traveling eastbound at 36 mph, derailed at a highway-rail grade crossing in Cherry Valley, IL. The train consisted of two locomotives and 114 cars, 19 of which derailed. All of the derailed cars were tank cars carrying denatured fuel ethanol, a flammable liquid. Thirteen of the derailed tank cars were breached or lost product and caught fire. At the time of the derailment, several motor vehicles were stopped on either side of the grade crossing waiting for the train to pass. As a result of the fire that erupted after the derailment, a passenger in one of the stopped cars was fatally injured, two passengers in the same car received serious injuries, and five occupants of other cars waiting at the highway-rail grade crossing were injured. Two responding firefighters also sustained minor injuries. The release of ethanol and the resulting fire prompted a mandatory evacuation of about 600 residences within a half-mile radius of the accident site.

The NTSB determined that the probable cause of the accident was the washout of the track structure that was discovered about 1 hour before the train's arrival, and CN's failure to notify the train crew of the known washout in time to stop the train because of the inadequacy of CN's emergency communication procedures.

At the derailment site was a 12-inch diameter underground natural gas transmission pipeline operated by Nicor Gas. The pipeline well exceeded Federal standards for protective ground cover. Yet, as the wreckage was removed from above the pipeline, Nicor's crews discovered that a railcar wheel and axle assembly had impacted the pipeline. Although the pipeline was buried about 11 feet deep and protected within a 16-inch diameter casing, the railcar wheels severely dented the pipeline. The impact caused a severe flattening of the pipe casing with sharp angular bends at two locations where the railcar wheel assembly contacted it. This degree of deformation to the 16-inch pipe casing likely caused similar damage to the 12-inch carrier pipe. The NTSB concluded that had the gas pipeline been installed at the railroad crossing with only the minimum level of ground cover permitted by the current Federal and industry pipeline construction standards, it likely would have failed as a result of being struck by derailed equipment in this accident. Accordingly, NTSB issued Safety Recommendation R-12-04 recommending that FRA “[i]nform railroads about the circumstances of the accident and advise them of the need to immediately notify pipeline operators of accidents occurring in railroad rights-of-way and ensure that pipeline inspections are accomplished prior to resumption of service.”

On July 31, 2012, the Pipeline and Hazardous Materials Safety Administration (PHMSA) issued an advisory bulletin in the Federal Register (77 FR 45417-45418), encouraging pipeline owners and operators, as a part of their public awareness programs, to inform rail operators and emergency response officials of the benefits of using the 811 “Call Before You Dig” program to identify and notify underground utilities that an incident has occurred in the vicinity of their buried facilities.

Like PHMSA, FRA encourages railroads to use the 811 “Call Before You Dig” program to notify pipeline operators of rail accidents occurring in railroad rights-of-way where pipelines are present and to ensure that pipeline inspections are accomplished prior to resumption of service. By calling 811, pipeline owners and operators will be notified of potential problems the accident may have caused to the pipeline, and enable the pipeline owners and operators to work with the involved railroads to prevent further injury to individuals cleaning up the accident site.

Issued in Washington, DC, on February 25, 2013.
Robert C. Lauby,
Deputy Associate Administrator for Regulatory and Legislative Operations.

[FR Doc. 2013-04684 Filed 2-27-13; 8:45 am]

BILLING CODE 4910-06-P